COMMITTEE FOR PURCHASE FROM PEOPLE WHO ARE BLIND OR SEVERELY DISABLED

Procurement List, Proposed Additions and Deletions

AGENCY: Committee for Purchase From People Who Are Blind or Severely Disabled.

ACTION: Proposed additions to and deletions from the Procurement List.

SUMMARY: The Committee is proposing to add products to the Procurement List that will be furnished by a nonprofit agency employing persons who are blind or have other severe disabilities, and deletes products and a service previously furnished by such agencies.

Comments Must be Received on or Before: 2/10/2014.

ADDRESSES: Committee for Purchase From People Who Are Blind or Severely Disabled, 1401 S. Clark Street, Suite 10800, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed. These products are being proposed as part of the eyewear products proposed for addition to the Procurement List in the Federal Register at 78 FR 75911 and published on Friday, December 13, 2013. Comments received from the public, to-date, as a result of the eyewear proposed at 78 FR 75911, are considered inclusive of the eyewear products proposed here.

Products

NSN: 6650-00-NIB-0009—Flat Top 28, Bifocal, Single Vision, Plastic, Clear.

NSN: 6650-00-NIB-0010—Flat Top 28, Bifocal, Plastic, Clear.

NSN: 6650-00-NIB-0011—Flat Top 35, Bifocal, Clear.

NSN: 6650-00-NIB-0012—Clear Plastic Round 25 and Round 28.

NSN: 6650-00-NIB-0013—Flat Top 7 × 28, Plastic, Clear.

NSN: 6650-00-NIB-0014—Flat Top 8 × 35, Plastic, Clear.

NSN: 6650-00-NIB-0015—Progressives, (VIP, Adaptar, Freedom, Image), Plastic, Clear.

NSN: 6650-00-NIB-0016—Lenticular Aspheric, Single Vision, Plastic, Clear.

NSN: 6650-00-NIB-0017—Flat Top-Round Aspheric Lenticular, Plastic, Clear.

NSN: 6650-00-NIB-0018—Executive Bifocal, Plastic, Clear.

NSN: 6650-00-NIB-0019—Single Vision, Glass, Clear.

NSN: 6650-00-NIB-0020—Flat Top 28, Bifocal, Glass, Clear.

NSN: 6650-00-NIB-0021—Flat Top 35, Bifocal, Glass, Clear.

NSN: 6650-00-NIB-0022—Flat Top 7 × 28, Trifocal, Glass, Clear.

NSN: 6650-00-NIB-0023—Flat Top 8 × 35, Trifocal, Glass, Clear.

NSN: 6650-00-NIB-0024—Progressives, (VIP, Adaptar, Freedom), Glass, Clear.

NSN: 6650-00-NIB-0025—Executive Bifocal, Glass, Clear.

NSN: 6650-00-NIB-0026—Single Vision, Polycarbonate, Clear.

NPA: Winston-Salem Industries for the Blind, Inc., Winston-Salem, NC.

Contracting Activity: NETWORK CONTRACTING OFFICE 8, TAMPA, FL.

Coverage: C-List for 100% of the requirements of Bay Pines Healthcare System, Bay Pines, FL and the James A. Haley Veterans Hospital, Tampa, FL as aggregated by Network Contracting Office 8, Tampa, FL.

Deletions

The following products and service are proposed for deletion from the Procurement List:

Products

NSN: 7530-00-281-5907—Folder, File, Paperboard, Heavy Duty, ⅓ Cut Tab, Clear Sleeve, Kraft, Letter.

NPA: L.C. Industries for the Blind, Inc., Durham, NC.

Contracting Activity: GENERAL SERVICES ADMINISTRATION, NEW YORK, NY.

NSN: 7530-01-554-7679—DVD Label Refill.

NPA: North Central Sight Services, Inc., Williamsport, PA.

Contracting Activity: GENERAL SERVICES ADMINISTRATION, NEW YORK, NY.

Service

Service Type/Location: Janitorial/Custodial Service, Social Security Administration Building, 50 North Third Street, Chambersburg, PA.

Contracting Activity: GENERAL SERVICES ADMINISTRATION, FPDS AGENCY COORDINATOR, WASHINGTON, DC.

Barry S. Lineback,
Director, Business Operations.

[FR Doc. 2014-00238 Filed 1-9-14; 8:45 am]

BILLING CODE 6353-01-P